DEPARTMENT OF ENERGY

Federal Energy Regulatory Commission

[Project No. 15060-000]

Kinet, Inc.; Notice of Preliminary Permit Application Accepted For Filing and Soliciting Comments, Motions To Intervene, and Competing Applications

On December 3, 2020, Kinet, Inc., filed an application for a preliminary permit, pursuant to section 4(f) of the Federal Power Act (FPA), proposing to study the feasibility of a conventional hydropower project located in Jessamine, Woodford, and Mercer Counties, Kentucky. The sole purpose of a preliminary permit, if issued, is to grant the permit holder priority to file a license application during the permit term. A preliminary permit does not authorize the permit holder to perform any land-disturbing activities or otherwise enter upon lands or waters owned by others without the owners' express permission.

The proposed Kentucky River Lock and Dam No. 6 Hydroelectric Project would consist of the following: (1) An existing 465-foot-long, 34-foot-high, timber crib dam with concrete overlay connected to a 280-foot-long, and 45-foot-wide abandoned navigation lock, which are owned by the Kentucky River Authority; (2) a reservoir with a surface area of 666 acres and a storage capacity of 12,000 acre-feet; (3) five, proposed, 32-foot-long, 9-foot-diameter penstocks connected to five generating units with a combined capacity of 2.1 megawatts, within the existing lock; (4) a proposed powerhouse/control room adjacent to the lock; (5) a 30-foot-long by 63-foot-wide tailrace; and (6) a 270-foot-long, 12.47 kilo-Volt transmission line. The proposed project would have an estimated annual generation of 13,998 megawatt-hours.

Applicant Contact: Dan Panko, Kinet, Inc., 2401 Monarch Street, Alameda, CA 9401; phone: (802) 578-7973.

FERC Contact: Joshua Dub; phone: (202) 502-8138.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15060) in the docket number field to access the document. For assistance, contact FERC Online Support.

Dated: March 10, 2021.
Kimberly D. Bose,
Secretary.

[FR Doc. 2021-05384 Filed 3-15-21; 8:45 am]

BILLING CODE 6717-01-P